DEPARTMENT OF DEFENSE

Office of the Secretary

[Req No. OS-2024-00030-FR]

Defense Advisory Committee on Military Personnel Testing; Notice of Federal Advisory Committee Meeting

AGENCY: Under Secretary of Defense for Personnel and Readiness, (USD(P&R)) Department of Defense (DoD).

ACTION: Notice of Federal Advisory Committee meeting.

SUMMARY: The DoD is publishing this notice to announce that the following Federal Advisory Committee meeting of the Defense Advisory Committee on Military Personnel Testing (DACMPT) will take place.

DATES: Open to the public Tuesday, December 19, 2023 from 1:00 p.m. to 3:00 p.m., Eastern Time.

ADDRESSES: This will be a virtual meeting using Microsoft Teams. Link is: https://usg01.safelinks.protection.office365.us/ap/t-59584e83/?url=https%3A%2F%2Fteams.microsoft.com%2Fl%2Fmeetup-join%2F19%253ameeting_MWE2Y2Q3ZmMtNWY5ZS00OWJlLTllOWItYWRmOTNmODI4ZTQx%2540thread.v2%2F0%3Fcontext%3D%257b%2522Tid%2522%253a%2522ca9c4d2f-3529-4c0f-b5ad-059f3b26b20c%2522%252c%2522Oid%2522%253a%2522223e7d39-62a6-4864-9b9d-3547a173a97f%2522%257d&data=05%7C01%7Csofiya.velgach.civ%40mail.mil%7C66506e89361c4912ff6708dbcb4c6b82%7C102d0191eeae4761b1cb1a83e86ef445%7C0%7C0%7C638327301326942569%7CUnknown%7CTWFpbGZsb3d8eyJWIjoiMC4wLjAwMDAiLCJQIjoiV2luMzIiLCJBTiI6Ik1haWwiLCJXVCI6Mn0%3D%7C3000%7C%7C%7C&sdata=geeh06J4hqhVfbdPRwbl1TkmJaMD0070xz4Zsaq5oZE%3D&reserved=0;.

Dial-in: (571) 429-6145; Phone Conference ID: 234 784 596#.

Additional meeting details will be posted on: https://dacmpt.com.

FOR FURTHER INFORMATION CONTACT: Designated Federal Officer (DFO), Dr. Sofiya Velgach, (703) 697-9271 (Voice), 703 614-9272 (Facsimile), osd.pentagon.ousd-p-r.mbx.dacmpt@mail.mil (Email). Mailing address is DFO, Accession Policy, Office of the USD(P&R), Room 3D1066, The Pentagon, Washington, DC 20301-4000. The most up-to-date changes to the meeting can be found on the website: https://dacmpt.com.

SUPPLEMENTARY INFORMATION: This meeting is being held under the provisions of chapter 10 of title 5, United States Code (U.S.C.) (commonly known as the “Federal Advisory Committee Act” or “FACA”); 5 U.S.C. 552b (commonly known as the “Government in the Sunshine Act”); and 41 Code of Federal Regulations (CFR) 102-3.140 and 102-3.150.

Purpose of the Meeting: The purpose of the meeting is to provide an overview and obtain DACMPT members' recommendation on the methodology and proposed way forward for allowing the use of calculators on the quantitative sections of the Armed Services Vocational Aptitude Battery (ASVAB). Additional information can be found at https://dacmpt.com.

Agenda:

Tuesday, December 19, 2023

1:00 p.m.-1:05 p.m. Welcome and Opening Remarks, Dr. Sofiya Velgach, Office of the Assistant Secretary of Defense for Manpower and Reserve Affairs/Accession Policy

1:05 p.m.-2:00 p.m. Calculators on the ASVAB, Dr. David M. Trippe, Office of People Analytics/Defense Testing and Assessment Center

2:00 p.m.-2:45 p.m. Immediate Implementation of Calculators, Mr. Ethan Blankenship Office of the Assistant Secretary of Defense for Manpower and Reserve Affairs/Accession Policy

2:45 p.m.-2:55 p.m. Public Comments

2:55 p.m.-3:00 p.m. Closing Comments. Dr. Nancy Tippins, Chair

Latest version of the agenda will be posted on https://dacmpt.com.

Meeting Accessibility: Pursuant to 5 U.S.C. 552b and 41 CFR 102-3.140 through 102-3.165, and the availability of space, this meeting is virtually open to the public. Dial-in and access availability is based on first-come, first-served basis. All members of the public who wish to attend the public meeting must contact the DFO no later than 12:00 p.m. on Monday, December 4, 2023, as listed in the FOR FURTHER INFORMATION CONTACT section.

Written Statements: Pursuant to 41 CFR 102-3.105(j) and 102-3.140 and section 10(a)(3) of the FACA, interested persons may submit written statements to the DACMPT at any time about its approved agenda or at any time on the DACMPT's mission. Written statements should be submitted to the DACMPT's DFO at the address or facsimile number listed in the FOR FURTHER INFORMATION CONTACT section. If statements pertain to a specific topic being discussed at the planned meeting, then these statements must be submitted no later than five (5) business days prior to the meeting in question. Written statements received after this date may not be provided to, or not considered by the DACMPT until its next meeting. The DFO will review all timely submitted written statements and provide copies to all the DACMPT members before the meeting that is the subject of this notice. Please note that since the DACMPT operates under the provisions of the FACA, all submitted comments and public presentations will be treated as public documents and will be made available for public inspection. Opportunity for public comments will be provided at the end of each day. Public comments will be limited to 2 minutes per person, as time allows.

Dated: October 30, 2023.
Aaron T. Siegel,
Alternate OSD Federal Register Liaison Officer, Department of Defense.

[FR Doc. 2023-24402 Filed 11-3-23; 8:45 am]

BILLING CODE 6001-FR-P